DEPARTMENT OF COMMERCE

International Trade Administration U.S. Department of Agriculture, ARS—Albany, CA; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-034. Applicant: U.S. Department of Agriculture, ARS, Albany, CA 94710. Instrument: Laboratory Decanter Centrifuge, Type MDZ 003. Manufacturer: Limetic GmbH, Germany. Intended Use: See notice at 68 FR 42007, July 16, 2003.

Comments: None received. Decision: Approved. No instrument of equivalent scientific value to the foreign instrument, for such purposes as it is intended to be used, is being manufactured in the United States. Reasons: The foreign instrument provides a small continuous decanter centrifuge for fractionation of starch/protein slurries designed for laboratory experimentation. The National Institutes of Health advises in its memorandum of July 21, 2003 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-23193 Filed 9-10-03; 8:45 am]

BILLING CODE 3510-DS-P